DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed and/or continuing information collections, as required by the Paperwork Reduction Act of 1995, Public Law No. 104-13 (44 U.S.C. 3506(c)(2)(A)). Currently, the Community Development Financial Institutions Fund (the “CDFI Fund”), an office within the Department of the Treasury, is soliciting comments concerning the CDFI Program Healthy Food Financing Initiative—Financial Assistance (HFFI-FA) Supplemental Questionnaire.

DATES: Written comments should be received on or before October 3, 2011 to be assured of consideration.

ADDRESS: Direct all comments to Ruth Jaure, CDFI Program Manager, at the Community Development Financial Institutions Fund, U.S. Department of the Treasury, 601 13th Street, NW., Suite 200 South, Washington, DC 20005, by e-mail to cdfihelp@cdfi.treas.gov or by facsimile to (202) 622-7754. Please note this is not a toll free number.

FOR FURTHER INFORMATION CONTACT: The HFFI-FA Supplemental Questionnaire may be obtained from the CDFI Program page of the CDFI Fund's Web site at http://www.cdfifund.gov. Requests for additional information should be directed to Ruth Jaure, CDFI Program Manager, Community Development Financial Institutions Fund, U.S. Department of the Treasury, 601 13th Street, NW., Suite 200 South, Washington, DC 20005, or call (202) 622-9156. Please note this is not a toll free number.

SUPPLEMENTARY INFORMATION:

Title: Healthy Food Financing Initiative—Financial Assistance Program Supplemental Questionnaire.

OMB Number: 1559-0040.

Abstract: The Community Development Financial Institutions (CDFI) Program was established by the Community Development and Regulatory Improvement Act of 1994 to use federal resources to invest in and build the capacity of CDFIs to serve low-income people and communities lacking adequate access to affordable financial products and services. Through the CDFI Program, the CDFI Fund provides: (1) Financial Assistance (FA) awards to CDFIs that have Comprehensive Business Plans for creating demonstrable community development impact through the deployment of credit, capital, and financial services within their respective Target Markets or the expansion into new Investment Areas, Low-Income Targeted Populations, or Other Targeted Populations, and (ii) Technical Assistance (TA) grants to CDFIs and entities proposing to become CDFIs in order to build their capacity to better address the community development and capital access needs of their existing or proposed Target Markets and/or to become certified CDFIs.

In FY 2011, the CDFI Fund distributed a HFFI-FA Supplemental Questionnaire to FA applicants that met a minimum FA scoring threshold. The HFFI-FA Program is one component of the Federal government's Healthy Food Financing Initiative (HFFI). The HFFI represents the government's first coordinated step to eliminate food deserts—urban and rural areas in the United States with limited access to affordable and nutritious food, particularly areas composed of predominantly lower-income neighborhoods and communities—by promoting a wide range of interventions that expand the supply of and demand for nutritious foods, including increasing the distribution of agricultural products; developing and equipping grocery stores and strengthening the producer-to-consumer relationship.

The questions that the supplemental questionnaire contains, and the information generated thereby, will enable the Fund to evaluate applicants' activities and determine the extent of applicants' eligibility for a CDFI HFFI-FA award. Failure to collect this information could result in improper uses of Federal funds.

Current Actions: Reinstatement with change of a previously approved collection.

Type of Review: Regular Review.

Affected Public: Certified CDFIs and entities seeking CDFI Certification.

Estimated Number of Respondents: 50.

Estimated Annual Time per Respondent: 20 hours.

Estimated Total Annual Burden Hours: 1,000 hours.

Requests for Comments: Comments submitted in response to this notice will be summarized and/or included in the request for Office of Management and Budget approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

The CDFI Fund specifically requests comments concerning the following: (1) Whether the use of a different definition for “food deserts” would be more in line with CDFI activity in this area; (2) whether the use of a different definition for “healthy foods” is needed; (3) whether the CDFI Fund should allow for additional indicators to describe needs in an Applicant's Target Market; (4) whether the distinct business models followed by different types of CDFIs (such as loan funds, banks, credit unions, and venture capital funds) merit individualized applications; and (5) the merit of further reducing or increasing the narrative page limits in the application.

Authority: 12 U.S.C. 1834a, 4703, 4703 note, 4713, 4717; 31 U.S.C. 321; 12 CFR part 1806.

Dawn D. Wolfgang,
Treasury PRA Clearance Officer.

[FR Doc. 2011-19749 Filed 8-3-11; 8:45 am]

BILLING CODE 4810-70-P